ELECTION ASSISTANCE COMMISSION

Sunshine Act Meetings

AGENCY: U.S. Election Assistance Commission.

ACTION: Sunshine Act Notice; Notice of Public Meeting Agenda.

SUMMARY: Public Meeting: U.S. Election Assistance Commission Board of Advisors Executive Officers Elections Meeting.

DATES: August 17, 2020 2:00 p.m.-3:30 p.m. Eastern.

ADDRESSES: Virtual via Zoom.

The hearing is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct a virtual meeting of the Board of Advisors to elect new Executive Officers for the 2020-2021 term.

Agenda: The U.S. Election Assistance Commission (EAC) Board of Advisors will hold the 2020 Executive Officers Elections Meeting primarily to conduct elections for the offices of Chair, Vice Chair, and Secretary for the 2020-2021 term.

Background: The Board of Advisors Executive Committee consists of a Chair, Vice Chair, and Secretary. Pursuant to the Board of Advisors Bylaws, the elections for these offices are to take place each year during the Board of Advisors annual meeting. The Board of Advisors held the first part of the Annual Meeting on June 16, 2020, at which time the Board announced the Executive Officer nominating period was extended through July 16, 2020. The Board of Advisors membership will review the received nominations and vote for a new Chair, Vice Chair, and Secretary to serve the 2020-2021 term during this August 17, 2020 public meeting.

The full agenda will be posted in advance on the EAC website: https://www.eac.gov.

STATUS: This hearing will be open to the public.

Amanda Joiner,
Associate Counsel, U.S. Election Assistance Commission.

[FR Doc. 2020-16820 Filed 7-29-20; 4:15 pm]

BILLING CODE P